DEPARTMENT OF AGRICULTURE

Forest Service

Proposed New Recreation Fee Sites

AGENCY: Forest Service, Agriculture (USDA).

ACTION: Notice.

SUMMARY: The Ouachita National Forest is proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new fees would be implemented no earlier than six months following the publication of this notice in the Federal Register.

ADDRESSES: Ouachita National Forest, P.O. Box 1270, Hot Springs, Arkansas 71902.

FOR FURTHER INFORMATION CONTACT: Bill Jackson, Forest Recreation Program Manager, 501-321-5202 or r8_ouachita_recreation@usda.gov.

SUPPLEMENTARY INFORMATION: The Federal Lands Recreation Enhancement Act (16 U.S.C. 6803(b)) directs the Secretary of Agriculture to publish a six-month advance notice in the Federal Register of establishment of new recreation fee sites. In accordance with Forest Service Handbook 2309.13, Chapter 30, the Forest Service will publish the proposed new recreation fee sites in local newspapers and other local publications for public comment. Most of the new recreation fee revenues would be spent where they are collected to enhance the visitor experience at the new recreation fee sites.

An expanded amenity recreation fee of $100 per night would be charged for rental of Shady Lake Caretakers Cabin and an additional $10 per tent adjacent to the cabin. A standard amenity recreation fee of $5 per day per vehicle would be charged at Little Missouri Falls Day Use developed recreation site. The America the Beautiful—the National Parks and Federal Recreational Lands Pass would be honored at these standard amenity recreation fee sites. A special recreation permit fee of $10 per off-highway vehicle (OHV) per day, or a $60 annual pass, is proposed at the Wolf Pen Gap OHV Trail Complex.

Expenditures from recreation fee revenues collected at the new recreation fee sites would enhance recreation opportunities, improve customer service, and address maintenance needs. Once public involvement is complete, these new fees will be reviewed by a Resource Advisory Committee prior to a final decision and implementation. Reservations for the cabin could be made online at www.recreation.gov or by calling 877-444-6777. Reservations would cost $8.00 per reservation.

Dated: December 8, 2023.
Jacqueline Emanuel,
Associate Deputy Chief, National Forest System.

[FR Doc. 2023-27515 Filed 12-14-23; 8:45 am]

BILLING CODE 3411-15-P